DEPARTMENT OF THE INTERIOR

Bureau of Land Management

[LLCAN00000.L18200000.XZ0000]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The committee will meet Wednesday and Thursday, June 13 and 14, 2012, in Cedarville, California. On June 13, the RAC will convene at 10 a.m. at the Bureau of Land Management Surprise Field Office, 602 Cressler St., and depart immediately for a field tour. Members of the public are welcome. They must provide their own transportation in a high clearance vehicle, food and beverages. On June 14, the council meeting begins at 8 a.m. in the Conference Room of the BLM Surprise Field Office. The public is welcome.

FOR FURTHER INFORMATION CONTACT: Nancy Haug, BLM Northern California District manager, (530) 224-2160; or Joseph J. Fontana, BLM public affairs officer, (530) 252-5332.

SUPPLEMENTARY INFORMATION: The 15-member council advises the Secretary of the Interior, through the BLM, on a variety of planning and management issues associated with public land management in northeast California and the northwest corner of Nevada. Agenda items at this meeting include an update on the Bly Tunnel at Eagle Lake, public land access, travel management provisions in current resource management plans, BLM policy on deed restrictions on acquired lands, an update on geothermal development proposals and an acquisition strategy for Infernal Caverns. Public comments will be accepted at 11 a.m. Depending on the number of persons wishing to speak, and the time available, the time for individual comments may be limited. Individuals who plan to attend and need special assistance, such as sign language interpretation and other reasonable accommodations, should contact the BLM as provided above.

Dated: April 26, 2012.
Joseph J. Fontana,
Public Affairs Officer.

[FR Doc. 2012-10888 Filed 5-4-12; 8:45 am]

BILLING CODE 4310-40-P